DEPARTMENT OF THE INTERIOR

National Park Service

[NPS-NERO-GATE-14426; PPNEGATEB0, PPMVSCS1Z.Y00000]

Notice of January 10, 2014, Meeting of the Fort Hancock 21st Century Advisory Committee

AGENCY: National Park Service, Interior.

ACTION: Meeting notice.

SUMMARY: This notice sets forth the date of the seventh meeting of the Fort Hancock 21st Century Advisory Committee.

DATES: The public meeting of the Fort Hancock 21st Century Advisory Committee will be held on January 10, 2014, at 9:00 a.m. and adjourn 5:30 p.m. (Eastern) or earlier if meeting objectives are met.

ADDRESSES: The Committee will meet at The Chapel at Sandy Hook, Hartshorne Drive, Middletown, NJ 07732. Please check www.forthancock21stcentury.org for additional information. Written comments may be sent to John Warren, Park Ranger, Gateway National Recreation Area, 26 Hudson Road, Fort Hancock, NJ 07732, or submitted by email to: forthancock21stcentury@yahoo.com.

Agenda: Committee meeting will consist of the following:

1. Welcome and Introductory Remarks

2. Update on Working Group Progress

3. Assessment of Committee Needs

4. Potential Frameworks and Reuse Scenarios

5. Development of Committee Work Plan

6. Future Committee Activities and Meeting Schedule

7. Public Comment

8. Adjournment

The final agenda will be posted on www.forthancock21stcentury.org prior to each meeting.

FOR FURTHER INFORMATION CONTACT: Further information concerning the meeting may be obtained from John Warren, Park Ranger, Gateway National Recreation Area, 26 Hudson Road, Fort Hancock, NJ 07732, at (732) 872-5908 or email: forthancock21stcentury@yahoo.com, or visit the Committee Web site at www.forthancock21stcentury.org.

SUPPLEMENTARY INFORMATION: In accordance with section 9(a)(2) of the Federal Advisory Committee Act (5 U.S.C. Appendix 1-16), the purpose of the Committee is to provide advice to the Secretary of the Interior, through the Director of the National Park Service, on the development of a reuse plan and on matters relating to future uses of certain buildings at Fort Hancock within Gateway National Recreation Area.

The meeting is open to the public. Interested members of the public may present, either orally or through written comments, information for the Committee to consider during the public meeting. Attendees and those wishing to provide comment are strongly encouraged to preregister through the contact information provided. The public will be able to comment on January 10, 2014, from 1:00 p.m.to 1:45 p.m. Written comments will be accepted prior to, during, or after the meeting. Due to time constraints during the meeting, the Committee is not able to read written public comments submitted into the record. Individuals or groups requesting to make oral comments at the public committee meeting will be limited to no more than 5 minutes per speaker.

Before including your address, telephone number, email address, or other personal indentifying information in your written comments, you should be aware that your entire comment including your personal identifying information may be made publicly available. While you can ask us in your comment to withhold your personal identifying information from public review, we cannot guarantee that we will be able to do so. All comments will be made part of the public record and will be electronically distributed to all committee members.

Dated: December 16, 2013.
Alma Ripps,
Chief, Office of Policy.

[FR Doc. 2013-30791 Filed 12-24-13; 8:45 am]

BILLING CODE 4310-WV-P